DEPARTMENT OF TRANSPORTATION

Federal Aviation Administration

[Policy Statement Number PS-ACE100-2005-50001]

Applying Advisory Circular 20-152, “RTCA, Inc., Document RTCA/DO-254, Design Assurance Guidance for Airborne Electronic Hardware,” to Title 14 Code of Federal Regulations, Part 23 Aircraft

AGENCY: Federal Aviation Administration, DOT.

ACTION: Notice of availability; request for comments.

SUMMARY: This notice announces a Federal Aviation Administration (FAA) proposed policy. This memorandum sets up Federal Aviation Administration (FAA) certification policy on applying Advisory Circular (AC) 20-152 to complex airborne electronic hardware (CEH) installed in part 23 aircraft or in airships. The specific issues addressed concern selecting and applying hardware design assurance levels (HDAL) to CEH. This notice advises the public, especially manufacturers of normal, utility, and acrobatic category airplanes, and commuter category airplanes and their suppliers, that the FAA intends to adopt this policy. This notice is necessary to advise the public of this FAA policy and give all interested persons an opportunity to present their views on it.

DATES: Comments must be received on or before February 27, 2006.

ADDRESSES: Send all comments on the proposed policy statement to the individual identified under FOR FURTHER INFORMATION CONTACT. Comments may be inspected at the Small Airplane Directorate, Standards Office (ACE-110), Aircraft Certification Service, Federal Aviation Administration, 901 Locust, Room 301, Kansas City, Missouri, between the hours of 7:30 a.m. and 4:00 p.m. weekdays, except Federal holidays.

FOR FURTHER INFORMATION CONTACT: Robin Sova, Federal Aviation Administration, Small Airplane Directorate, Regulations & Policy, ACE-114, 901 Locust Street, Room 301, Kansas City, Missouri 64106; telephone: (816) 329-4133; fax: 816-329-4090; e-mail: robin.sova@faa.gov.

SUPPLEMENTARY INFORMATION:

Comments Invited

Interested persons are invited to comment on this proposed policy statement by submitting written data, views, or arguments. Identify the proposed policy statement number, PS-ACE100-2005-50001, on your comments. If you submit your comments in writing, send two copies of your comments to the above address. The Small Airplane Directorate will consider all communications received on or before the closing date for comments. We may change the proposal contained in the policy because of the comments received.

Comments sent by fax or the Internet must contain “Comments to proposed policy statement PS-ACE100-2005-50001” in the subject line. You do not need to send two copies if you fax your comments or send them through the Internet. If you send comments over the Internet as an attached electronic file, format it in Microsoft Word for Windows. State what specific change you are seeking to the proposed policy memorandum and include justification (for example, reasons or data) for each request.

Copies of the proposed policy statement, PS-ACE100-2005-50001, may be requested from the following: Small Airplane Directorate, Standards Office (ACE-110), Aircraft Certification Service, Federal Aviation Administration, 901 Locust Street, Room 301, Kansas City, MO 64106. In a few days, the proposed policy statement will also be available on the Internet at the following address:

http://www.airweb.faa.gov/policy.

Issued in Kansas City, Missouri, on January 6, 2006.
John R. Colomy,
Acting Manager, Small Airplane Directorate, Aircraft Certification Service.

[FR Doc. E6-962 Filed 1-25-06; 8:45 am]

BILLING CODE 4910-13-P